DEPARTMENT OF LABOR

Office of the Secretary

Submission for OMB Review: Comment Request

November 14, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: 1,2-Dibromo-3-Chloropropane Standard (29 CFR 1910.1044).

OMB Number: 1218-0101.

Frequency: On occasion; Quarterly; Semi-annually; and Annually.

Type of Response: Recordkeeping and Third party disclosure.

Affected Public: Business or other for-profit; Federal Government; and State, Local, or Tribal Government.

Number of Respondents: 1.

Number of Annual Responses: 1.

Total Burden Hours: 1.

Total Annualized capital/startup costs: $0.

Total Annual Costs (operating/maintaining systems or purchasing services): $0.

Description: The information collection requirements specified in the 1,2-Dibromo-3-Chloropropane (DBCP) Standard protect employees from the adverse health effects that may result from their exposure to DBCP. The Standard requires employers to: Monitor employees' exposure to 1,2-Dibromo-3-Chloropropane; monitor employee health; and medical records; and provide employees with information about their exposures and health effects of exposure to DBCP.

After extensive research, OSHA found no U.S. employer who currently produces DBCP or DBCP-based end-use products; therefore, no cost or time burdens accrue to employers under the Standard. The Environmental Protection Agency (EPA) registered DBCP as a soil fumigant for controlling nematodes during growth of field crops, vegetables, fruits and nuts, greenhouse and nursery crops, and turf. In 1977, the EPA suspended all registration of DBCP-based end-use products, except fumigants for Hawaiian pineapples; EPA revoked this exception in 1985.

Darrin A. King,
Acting Departmental Clearance Officer.

[FR Doc. 05-22864 Filed 11-17-05; 8:45 am]

BILLING CODE 4510-26-P